INTERNATIONAL TRADE COMMISSION

[Investigation No. 337-TA-620]

In the Matter of Certain Low Antimony Phosphoric Acid; Notice of Commission Decision Not To Review an Initial Determination Terminating the Investigation on the Basis of a Settlement Agreement

AGENCY: U.S. International Trade Commission.

ACTION: Notice.

SUMMARY: Notice is hereby given that the U.S. International Trade Commission has determined to not to review the initial determination (“ID”) (Order No. 3) of the presiding administrative law judge (“ALJ”) terminating the above-captioned investigation on the basis of a settlement agreement.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On December 18, 2007, the Commission instituted an investigation titled Certain Low Antimony Phosphoric Acid, Inv. No. 337-TA-620, based upon a complaint filed November 8, 2007 on behalf of ICL Performance Products, LP (St. Louis, Missouri) (“ICL”). 72 FR 71,698 (December 18, 2007). The complaint alleged violations of section 337 of the Tariff Act of 1930, as amended, 19 U.S.C. 1337, in the importation into the United States, the sale for importation, and the sale within the United States after importation of certain low antimony phosphoric acid by reason of infringement of certain claims of U.S. Patent No. 5,989,509. The complaint named as respondents Maruzen Chemicals Co., Ltd. (Osaka, Japan) (“Maruzen”) and Rasa Industries, Ltd. (Tokyo, Japan) (“Rasa”). The complaint was accompanied by a motion for temporary relief, which was later withdrawn.

ICL, Maruzen, and Rasa subsequently filed a joint motion, dated January 16, 2008, to terminate the above-captioned investigation on the basis of a settlement agreement. The Commission investigative attorney filed a response in support of the joint motion.

The ALJ issued the subject ID on February 25, 2008, granting the joint motion to terminate the investigation. No petitions for review have been filed. The Commission has determined not to review the subject ID. The investigation is hereby terminated. This action is taken under the authority of section 337 of the Tariff Act of 1930, as amended (19 U.S.C. 1337), and sections 210.41(a) and 210.42(h)(3) of the Commission's Rules of Practice and Procedure (19 CFR 210.41(a), 210.42(h)(3)).

By order of the Commission.
Issued: March 25, 2008.
Marilyn R. Abbott,
Secretary to the Commission.

[FR Doc. E8-6436 Filed 3-28-08; 8:45 am]

BILLING CODE 7020-02-P